NUCLEAR REGULATORY COMMISSION

[NRC-2016-0001]

Sunshine Act Meeting Notice

DATE: June, 20, 27, July 4, 11, 18, 25, 2016.

PLACE: Commissioners' Conference Room, 11555 Rockville Pike, Rockville, Maryland.

STATUS: Public and closed.

Week of June 20, 2016

Monday, June 20, 2016

9:00 a.m.—Meeting with Department of Energy Office of Nuclear Energy (Public Meeting) (Contact: Albert Wong: 301-415-3081)

This meeting will be webcast live at the Web address— http://www.nrc.gov/.

Thursday, June 23, 2016

8:55 a.m.—Affirmation Session (Public Meeting) (Tentative)

Entergy Nuclear Vermont Yankee, LLC and Entergy Nuclear Operations, Inc. (Vermont Yankee Nuclear Power Station), Appeal of LBP-15-18 and Petition for Reconsideration of SRM-SECY-14-0125 (Tentative)

9:00 a.m. Discussion of Security Issues (Closed Ex. 3)

Week of June 27, 2016—Tentative

Tuesday, June 28, 2016

9:30 a.m.—Briefing on Human Capital and Equal Opportunity Employment (Public Meeting) (Contact: Kristin Davis: 301-287-0707)

This meeting will be webcast live at the Web address— http://www.nrc.gov/.

Week of July 4, 2016—Tentative

Thursday, July 7, 2016

9:30 a.m.—Strategic Programmatic Overview of the Reactors Operating Business Line (Public Meeting) (Contact: Trent Wertz: 301-415-1568)

Week of July 11, 2016—Tentative

There are no meetings scheduled for the week of July 11, 2016.

Week of July 18, 2016—Tentative

Thursday, July 21, 2016

9:30 a.m.—Briefing on Project Aim (Public Meeting) (Contact: Janelle Jessie: 301-415-6775)

This meeting will be webcast live at the Web address— http://www.nrc.gov/.

Week of July 25, 2016—Tentative

Thursday, July 28, 2016

9:00 a.m.—Hearing on Combined Licenses for Levy Nuclear Plant, Units 1 and 2: Section 189a. of the Atomic Energy Act Proceeding (Public Meeting) (Contact: Donald Habib: 301-415-1035)

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: June 16, 2016.
Denise L. McGovern,
Policy Coordinator, Office of the Secretary.

[FR Doc. 2016-14697 Filed 6-16-16; 4:15 pm]

BILLING CODE 7590-01-P